NUCLEAR REGULATORY COMMISSION

[NRC-2014-0060]

Response Strategies for Potential Aircraft Threats

AGENCY: Nuclear Regulatory Commission.

ACTION: Regulatory guide; issuance.

SUMMARY: The U.S. Nuclear Regulatory Commission (NRC) is issuing revision 1 to Regulatory Guide (RG) 1.214, “Response Strategies for Potential Aircraft Threats.” The revision contains updated references and minor corrections. The revision does not contain substantive changes in the NRC staff's regulatory positions. The guide describes a method that the NRC staff considers acceptable for applicants for, and holders of, nuclear power plant licenses to comply with NRC requirements to develop, implement, and maintain procedures for responding to potential aircraft threats.

ADDRESSES: The document will be made available for those individuals who have established a “need-to-know” and possess access permission to Official Use Only-Security Related Information (OUO-SRI). To access and review the document contact: James Vaughn, telephone: 301-287-3586, email: james.vaughn@nrc.gov.

FOR FURTHER INFORMATION CONTACT: James Vaughn, telephone: 301-287-3586, email: james.vaughn@nrc.gov, or Mekonen Bayssie, telephone: 301-251-7489, email: mekonen.bayssie@nrc.gov, U.S. Nuclear Regulatory Commission, Washington, DC 20555-0001.

SUPPLEMENTARY INFORMATION:

I. Introduction

The NRC is issuing a revision to an existing guide in the NRC's “Regulatory Guide” series. Regulatory guides were developed to describe and make available to the public, to the extent possible, information and methods that are acceptable to the NRC staff for implementing specific parts of the agency's regulations, techniques that the staff uses in evaluating specific problems or postulated accidents, and data that the staff needs in its review of applications for permits and licenses. The NRC typically seeks public comment on a draft version of a regulatory guide by announcing its availability for comment in the Federal Register. However, as explained in section III.F. of the Handbook for NRC Management Directive 6.6, “Regulatory Guides” (Agencywide Documents Access and Management System Accession No. ML110330475), the NRC may directly issue a final regulatory guide without a draft version or public comment period if the changes to the regulatory guide are non-substantive. Furthermore, RG 1.214 is withheld from public disclosure but is available to those affected licensees and cleared stakeholders who can or have demonstrated a “need-to-know.”

The NRC is issuing Revision 1 of RG 1.214 directly as a final regulatory guide because the changes between Revision 0 and Revision 1 are non-substantive. This revision of RG 1.214 incorporates editorial changes, updates the guide to conform to the current format for regulatory guides, and updates references to related guidance for emergency preparedness (EP). These changes are intended to improve clarity of the guidance and alignment with the EP requirements in part 50 of Title 10 of the Code of Federal Regulations (10 CFR), Appendix E, and do not alter the staff regulatory guidance.

II. Backfitting and Issue Finality

Issuance of this final regulatory guide does not constitute backfitting as defined in 10 CFR 50.109 (the Backfit Rule) and is not otherwise inconsistent with the issue finality provisions in 10 CFR part 52. The changes in Revision 1 of RG 1.214 are limited to editorial changes to improve clarity of the guidance and alignment with the EP requirements in 10 CFR part 50, Appendix E. These changes do not fall within the kinds of agency actions that constitute backfitting or are subject to limitations in the issue finality provisions of 10 CFR part 52. Accordingly, the NRC did not address the Backfit Rule or issue finality provisions of 10 CFR part 52.

III. Congressional Review Act

This action is not a rule as defined in the Congressional Review Act (5 U.S.C. 801-808).

IV. Submitting Suggestions for Improvement of Regulatory Guides

Revision 1 of RG 1.214 is being issued without an opportunity for comment. However, you may at any time submit suggestions to the NRC for improvement of existing regulatory guides or for the development of new regulatory guides to address new issues. The input received will be considered in future updates and enhancements of the regulatory guide. Please coordinate with James Vaughn from the NRC's Office of Nuclear Security and Incident Response (telephone: 301-287-3686 or email: james.vaughn@nrc.gov) regarding the drafting and transmission of such comments in order to protect comments that contain OUO-SRI information.

Dated at Rockville, Maryland, this 19th day of March, 2014.
For the Nuclear Regulatory Commission.
Thomas H. Boyce,
Chief, Regulatory Guide and Generic Issues Branch, Division of Engineering, Office of Nuclear Regulatory Research.

[FR Doc. 2014-06575 Filed 3-25-14; 8:45 am]

BILLING CODE 7590-01-P